DEPARTMENT OF ENERGY

Federal Energy Regulatory Commission

Combined Notice of Filings #1

Take notice that the Commission received the following electric corporate filings:

Docket Numbers: EC17-32-000.

Applicants: American Illuminating Company, LLC.

Description: Supplement to November 14, 2016 Application for Authorization under Section 203 of the FPA of American Illuminating Company, LLC.

Filed Date: 1/13/17.

Accession Number: 20170113-5234.

Comments Due: 5 p.m. ET 1/23/17.

Take notice that the Commission received the following electric rate filings:

Docket Numbers: ER10-2331-062; ER10-2319-053; ER10-2317-053; ER13-1351-035; ER10-2330-060.

Applicants: J.P. Morgan Ventures Energy Corporation, BE CA LLC, BE Alabama LLC, Florida Power Development LLC, Utility Contract Funding, L.L.C.

Description: Non-Material Change in Status of the J.P. Morgan Sellers.

Filed Date: 1/17/17.

Accession Number: 20170117-5309.

Comments Due: 5 p.m. ET 2/7/17.

Docket Numbers: ER10-2984-032.

Applicants: Merrill Lynch Commodities, Inc.

Description: Notice of Non-Material Change in Status of Merrill Lynch Commodities, Inc.

Filed Date: 1/17/17.

Accession Number: 20170117-5308.

Comments Due: 5 p.m. ET 2/7/17.

Docket Numbers: ER16-1152-002.

Applicants: Jericho Rise Wind Farm LLC.

Description: Notice of Non-Material Change in Status of Jericho Rise Wind Farm LLC.

Filed Date: 1/17/17.

Accession Number: 20170117-5307.

Comments Due: 5 p.m. ET 2/7/17.

Docket Numbers: ER17-512-001.

Applicants: Virginia Electric and Power Company.

Description: Compliance filing: Compliance Filing—Informational Filing (Yorktown) to be effective N/A.

Filed Date: 1/17/17.

Accession Number: 20170117-5262.

Comments Due: 5 p.m. ET 1/24/17.

Docket Numbers: ER17-805-000.

Applicants: Wyoming Colorado Intertie, LLC.

Description: Tariff Cancellation: Cancellation of OATT to be effective 1/18/2017.

Filed Date: 1/17/17.

Accession Number: 20170117-5271.

Comments Due: 5 p.m. ET 2/7/17.

Docket Numbers: ER17-806-000.

Applicants: Midcontinent Independent System Operator, Inc.

Description: § 205(d) Rate Filing: 2017-01-17_Changes to Market Monitoring and Mitigation in the PRA to be effective 2/1/2017.

Filed Date: 1/17/17.

Accession Number: 20170117-5272.

Comments Due: 5 p.m. ET 2/7/17.

Take notice that the Commission received the following qualifying facility filings:

Docket Numbers: QF17-538-000.

Applicants: Central CA Fuel Cell 1, LLC.

Description: Form 556 of Central CA Fuel Cell 1, LLC.

Filed Date: 1/17/17.

Accession Number: 20170117-5310.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2017.
Nathaniel J. Davis, Sr.,
Deputy Secretary.

[FR Doc. 2017-01642 Filed 1-24-17; 8:45 am]

BILLING CODE 6717-01-P